DEPARTMENT OF THE INTERIOR

Bureau of Land Management

[WO-220-01-1020-JA-VEIS]

Notice of Intent To Prepare an Environmental Impact Statement for the Conservation and Restoration of Vegetation, Watershed, and Wildlife Habitat Treatments on Public Lands Administered by the Bureau of Land Management in the Western United States Including Alaska

AGENCY: Bureau of Land Management, Interior.

ACTION: Notice of intent to prepare a national, programmatic environmental impact statement (EIS).

SUMMARY: Pursuant to Section 102 (2) (C) of the National Environmental Policy Act of 1969 (NEPA), the BLM will prepare a national, programmatic EIS and conduct public scoping meetings on (1) management opportunities and treatment methods for noxious weeds and other invasive species, and (2) the conservation and restoration of native vegetation, watersheds, and wildlife habitat. The EIS will cover the public lands administered by BLM in eleven western States, including Alaska.

DATES: Written or e-mailed comments for this initial scoping phase will be accepted for 30 days following publication of this notice. In addition, BLM will hold public scoping meetings to focus on relevant issues and environmental concerns, identify possible alternatives, and help determine the scope of the EIS. Times and locations will be announced in a separate Federal Register notice and through local press releases and advertisements.

ADDRESSES: For further information, to provide written comments, or to be placed on the mailing list, contact Brian Amme, Acting Project Manager, Bureau of Land Management, P.O. Box 12000, Reno, Nevada 89520-0006; e-mail brian_amme@nv.blm.gov ; telephone, (775) 861-6645. Comments will be available for public inspection at the Bureau of Land Management Nevada State Office, 1340 Financial Blvd., Reno, Nevada 89502.

Individual respondents may request confidentiality. If you wish your name and/or address withheld from public review or disclosure under the Freedom of Information Act, you must state this prominently at the beginning of your written or e-mailed comment. Such requests will be honored to the extent allowed by law. The BLM will not, however, consider anonymous comments. All submissions from organizations or businesses, and from individuals identifying themselves as representatives or officials of organizations or businesses, will be available for public inspection in their entirety.

SUPPLEMENTARY INFORMATION: This national, programmatic EIS will provide a comprehensive cumulative analysis of BLM conservation and restoration treatments involving vegetation communities, watersheds, and wildlife habitats. It will also consider State-specific reasonably foreseeable activities, including hazardous fuels reduction treatments. Restoration activities may include but are not limited to prescribed fire; riparian restoration; native plant community restoration; invasive plants and noxious weeds treatments; under-story thinning; forest health treatments; or other activities related to restoring fire-adapted ecosystems. The analysis area will include all surface estate public lands administered by the BLM in the following western States: Alaska, Arizona, California, Colorado, Idaho, Kansas, Montana, Nevada, North and South Dakota, New Mexico, Oklahoma, Oregon, Utah, Washington, and Wyoming. The EIS will update analyses that are contained in four existing BLM vegetation treatment and noxious weed management EIS's and analyze similar activities on public lands in Alaska, which were not included in the existing EIS's.

The BLM has initially identified the following issues for analysis in this programmatic EIS: hazardous fuels reduction and treatment including mechanical treatments; wildlife habitat improvement; restoration of ecosystem processes; protection of cultural resources; watershed and vegetative community health; new listings of threatened and endangered species and consideration of other sensitive and special status species; new chemical formulations for herbicides deemed to be more environmentally favorable; smoke management and air quality; emergency stabilization and restoration; and watershed and water quality improvement. The EIS will also provide human health risk assessments for a broad array of newly available chemical herbicides, and inert ingredients used in combination with chemical treatment activities.

Dated: September 14, 2001.
Elena Daly,
Acting Assistant Director, Renewable Resources and Planning.

[FR Doc. 01-25723 Filed 10-11-01; 8:45 am]

BILLING CODE 4310-84-P